DEPARTMENT OF DEFENSE

Office of the Secretary

Charter Renewal of Department of Defense Federal Advisory Committees—United States Military Academy Board of Visitors, United States Naval Academy Board of Visitors, and Board of Visitors of the United States Air Force Academy

AGENCY: Department of Defense (DoD).

ACTION: Charter renewal of Federal advisory committees.

SUMMARY: The DoD is publishing this notice to announce that it is renewing the charters for the United States Military Academy Board of Visitors, the United States Naval Academy Board of Visitors, and the Board of Visitors of the U.S. Air Force Academy; hereafter referred to as “the Military Service Academy Boards of Visitors.”

FOR FURTHER INFORMATION CONTACT: Jim Freeman, DoD Advisory Committee Management Officer at james.d.freeman4.civ@mail.mil, 703-697-1142.

SUPPLEMENTARY INFORMATION: The charters for the Military Service Academy Boards of Visitors are being renewed in accordance with chapter 10 of title 5, United States Code (U.S.C.) (commonly known as “the Federal Advisory Committee Act” or “FACA”), and 41 Code of Federal Register (CFR) 102-3.50(a). The charters and contact information for the Military Service Academy Boards of Visitors Designated Federal Officers (DFO) can be found at https://www.facadatabase.gov/FACA/apex/FACAPublicAgencyNavigation.

The mission/scope for the Military Service Academy Boards of Visitors along with its membership requirements are described in 10 U.S.C. 7455, 8468, and 9455. Members of the Military Service Academy Boards of Visitors who are not full-time or permanent part-time Federal civilian officers or employees, or active-duty members of the Uniformed Services are appointed as experts or consultants, pursuant to 5 U.S.C. 3109, to serve as special government employee members. Members of the Military Service Academy Boards of Visitors who are full-time or permanent part-time Federal civilian officers or employees, or active-duty members of the Uniformed Services are designated pursuant to 41 CFR 102-3.130(a), to serve as regular government employee members.

The public or interested organizations may submit written statements about the mission and functions of the Military Service Academy Boards of Visitors. Written statements shall be submitted to the respective DFO and may be submitted at any time or in response to the stated agenda of an announced meeting of a Military Service Academy Boards of Visitors. The respective DFO shall ensure that all written statements are provided to their respective membership for their consideration.

Dated: November 5, 2024.
Stephanie J. Bost,
Alternate OSD Federal Register Liaison Officer, Department of Defense.

[FR Doc. 2024-26106 Filed 11-8-24; 8:45 am]

BILLING CODE 6001-FR-P